DEPARTMENT OF COMMERCE

National Oceanic and Atmospheric Administration

RIN 0648-XF356

Western Pacific Fishery Management Council; Public Meeting

AGENCY: National Marine Fisheries Service (NMFS), National Oceanic and Atmospheric Administration (NOAA), Commerce.

ACTION: Notice of public meetings.

SUMMARY: The Western Pacific Fishery Management Council (Council) will hold a meeting of its Pelagics Plan Team (PPT) in Honolulu, HI to discuss fishery issues and develop recommendations for future management.

DATES: The meeting of the PPT will be held May 2-4 2017, from 8:30 a.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet at the Council Conference Room to discuss the following agenda items:

Tuesday, May 2, 2017 8.30 a.m.

1. Introduction

2. Review 2016 Annual Stock assessment and fishery evaluation (SAFE) Report Modules

A. Fishery Data Modules

i. Commonwealth of the Northern Marianas (CNMI)

ii. American Samoa

iii. Guam

iv. Hawaii

v. International

vi. Recreational Fisheries

B. Ecosystem Chapter

i. Environmental & climate variables

ii. Habitat section

iii. Marine planning section

iv. Human dimension section

v. Protected Species

vi. Discussions

C. Data Integration Chapter and Workshop

D. SAFE Report: Improvements and Recommendations

E. 2016 Annual Report Region Wide Improvements

3. Public Comment

Wednesday-Thursday, May 3-4, 2017, 8.30 a.m.

4. American Samoa

A. Evaluation of Large Vessel Prohibited Area (LVPA) Exemption

B. Litigation over the LVPA

C. LVPA Options

D. American Samoa Permit Modifications

E. Evaluation of Rose Atoll Marine National Monument (MNM) No-Take Regulations

5. Pelagic Longline Fisheries

A. Assessing Shark Bycatch Condition and Effects of Discard Practices

B. Deep-set Longline Programmatic Environmental Impact Statement (PEIS)

6. Hawaii

A. Options for Monument Expansion Area Regulations

B. Fish Flow Workshop

7. Omnibus Amendments

A. Options for Aquaculture Amendment

B. Review of Non-Fishing Impacts to Essential Fish Habitat (EFH) and Options for Refinement

8. Other Business

9. Public Comment

10. Pelagic Plan Team Recommendations

The order in which the agenda items are addressed may change. The PPT will meet as late as necessary to complete scheduled business. Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 11, 2017.
Tracey L. Thompson,
Acting Deputy Director, Office of Sustainable Fisheries, National Marine Fisheries Service.

[FR Doc. 2017-07582 Filed 4-13-17; 8:45 am]

BILLING CODE 3510-22-P